DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, Basic Demographic Items.

OMB Control Number: 0607-0049.

Form Number(s): CPS-263, CPS-263(SP), CPS-264, CPS-264(SP), CPS-266, BC-1428, BC-1428(SP), BC-1433, BC-1433(SP), CPS-692, CPS-504.

Type of Request: Revision of a currently approved collection.

Burden Hours: 18,013.

Number of Respondents: 59,000.

Average Hours Per Response: 1.5 minutes.

Needs and Uses: The purpose of this request for review is for the U.S. Census Bureau to obtain clearance from the Office of Management and Budget (OMB) for the collection of basic demographic information on the Current Population Survey (CPS).

The CPS has been the source of official government statistics on employment and unemployment for over 50 years. The Bureau of Labor Statistics (BLS) and the Census Bureau jointly sponsor the basic monthly survey, and the Census Bureau prepares and conducts all the field work. The Census Bureau provides the BLS with data files and tables. The BLS seasonally adjusts, analyzes, and publishes the results for the labor force data in conjunction with the demographic characteristics. In accordance with the OMB's request, the Census Bureau and the BLS divide the clearance request in order to reflect the joint sponsorship and funding of the CPS program. Title 29, United States Code, Sections 1-9, authorizes the collection of labor force data in the CPS.

The demographic information provides a unique set of data on selected characteristics for the civilian noninstitutional population. Some of the demographic information we collect is age, marital status, gender, Armed Forces status, education, race, origin, and family income. We use these data in conjunction with other data, particularly the monthly labor force data, as well as periodic supplement data. We also use these data independently for internal analytic research and for evaluation of other surveys. In addition, we need these data to correctly control estimates of other characteristics to the proper proportions of age, gender, race, and origin.

The demographic questions relating to origin and race within the CPS will undergo minor wording changes beginning in January 2012. These wording changes are being done to bring the CPS origin and race questions more in alignment with those in the American Community Survey. These changes were not mentioned in the Federal Register Notice published December 16, 2010, which requested public comment on the information collection. However, since the changes do not affect the meaning or purpose of the questions, nor will they affect the resulting information provided to data users, their absence from the Federal Register should not disrupt the clearance process.

We use the data from the CPS on household size and composition, age, education, ethnicity, and marital status to compile monthly averages or other aggregates for national and sub-national estimates. We use these data in four principal ways: in association with other data, such as monthly labor force or periodic supplement publications; for internal analytic research; for evaluation of other surveys and survey results; and as a general purpose sample and survey.

The demographic data are central to the publication of all labor force data in the BLS' monthly report Employment and Earnings. The data set that results from combining the monthly labor force data with the demographic data provides analysts with the ability to understand labor force patterns of many subpopulation groups. This is particularly important since the federal government often directs initiatives at special groups that historically have not conformed to general labor force participation patterns.

Affected Public: Individuals or households.

Frequency: Monthly.

Respondent's Obligation: Voluntary.

Legal Authority: Title 13, United States Code, Sections 141, 181, and 182 and Title 29, United States Code, Sections 1-9.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: March 4, 2011.
Glenna Mickelson,
Management Analyst, Office of the Chief Information Officer.

[FR Doc. 2011-5302 Filed 3-8-11; 8:45 am]

BILLING CODE 3510-07-P